FEDERAL COMMUNICATIONS COMMISSION

Notice of Public Information Collection(s) Being Reviewed by the Federal Communications Commission, Comments Requested

October 27, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before January 4, 2005. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION:

OMB Control Number: 3060-0056.

Title: Part 68, Connection of Terminal Equipment to the Telephone Network.

Form No.: Not applicable.

Type of Review: Extension of a currently approved collection.

Respondents: Business or other for-profit.

Number of Respondents: 58,520.

Estimated Time per Response: .05—24 hours.

Frequency of Response: On occasion reporting requirement, recordkeeping requirement, and third party disclosure requirement.

Total Annual Burden: 32,027 hours.

Total Annual Cost: 2,705,000.

Privacy Act Impact Assessment: Not applicable.

Needs and Uses: The purpose of 47 CFR part 68 is to protect the network from certain types of harm and interference to other subscribers. To ensure that consumers, providers of telecommunications, the Administrative Council, Telecommunications Certification Bodies (TCBs), and the Commission are able to trace products to the party responsible for placing terminal equipment on the market, it is essential to require manufacturers and suppliers to provide the information required by part 68.

OMB Control Number: 3060-1046.

Title: Implementation of the Pay Telephone Reclassification and Compensation Provisions of the Telecommunications Act of 1996, CC Docket No. 96-128, Order on Reconsideration.

Form No.: Not applicable.

Type of Review: Revision of a currently approved collection.

Respondents: Business or other for-profit.

Number of Respondents: 1,023 respondents; 4,854 annual responses.

Estimated Time Per Response: 100 hours.

Frequency of Response: Annual and quarterly reporting requirements, recordkeeping requirement and third party disclosure requirement.

Total Annual Burden: 485,400 hours.

Total Annual Cost: Not applicable.

Privacy Act Impact Assessment: Not applicable.

Needs and Uses: Last year, on October 3, 2003, the Commission issued a Report and Order (CC Docket 96-128/FCC 03-235) that required “Completing Carriers” to compensate Payphone Service Providers (PSPs) for each and every completed call using a coinless access number. The Report and Order defined Completing Carriers as the last facilities-based long distance carrier in a call path either an interexchange carrier or a switched-based reseller. On October 22, 2004, the Commission released this Order on Reconsideration (FCC 04-251), which does not change this compensation framework, but rather refines and builds upon its approach. The Commission provides guidance on the types of contracts that the Commission would deem to be reasonable methods of compensating PSPs, extends the time period that carriers much retain certain payphone records, and clarifies the rules' reporting, certification, and audit requirements.

Federal Communications Commission.
Marlene H. Dortch,
Secretary.

[FR Doc. 04-24746 Filed 11-4-04; 8:45 am]

BILLING CODE 6712-01-P